OFFICE OF THE UNITED STATES TRADE REPRESENTATIVE

Reallocation of Unused Fiscal Year 2021 WTO Tariff-Rate Quota Volume for Raw Cane Sugar

AGENCY: Office of the United States Trade Representative.

ACTION: Notice.

SUMMARY: The Office of the United States Trade Representative (USTR) is providing notice of country-by-country reallocations of the fiscal year (FY) 2021 in-quota quantity of the World Trade Organization (WTO) tariff-rate quota (TRQ) for imported raw cane sugar.

DATES: The changes made by this notice are applicable as of July 9, 2021.

FOR FURTHER INFORMATION CONTACT: Erin Nicholson, Office of Agricultural Affairs, at 202-395-9419 or erin.h.nicholson@ustr.eop.gov.

SUPPLEMENTARY INFORMATION: Pursuant to Additional U.S. Note 5 to Chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On July 9, 2020, the Secretary of Agriculture established the FY 2021 TRQ for imported raw cane sugar at the minimum to which the United States is committed pursuant to the WTO Uruguay Round Agreements (1,117,195 metric tons raw value (MTRV) conversion factor: 1 metric ton = 1.10231125 short tons). On July 22, 2020, USTR provided notice of country-by-country allocations of the FY 2021 in-quota quantity of the WTO TRQ for imported raw cane sugar. See 85 FR 44353. Based on consultation with quota holders, the U.S. Trade Representative has determined to reallocate 76,571 MTRV of the original TRQ quantity from those countries that have stated they do not plan to fill their FY 2021 allocated raw cane sugar quantities. The U.S. Trade Representative is allocating the 76,571 MTRV to the following countries in the amounts specified below:

Country | FY 2021 raw sugar unused reallocation (MTRV)
Argentina | 3,962
Australia | 7,648
Belize | 1,014
Bolivia | 737
Brazil | 13,361
Colombia | 2,211
Costa Rica | 1,381
Dominican Republic | 16,217
Ecuador | 1,014
El Salvador | 2,396
Eswatini (Swaziland) | 1,474
Fiji | 829
Guatemala | 4,423
Guyana | 1,106
Honduras | 921
India | 737
Jamaica | 1,014
Malawi | 921
Mauritius | 1,106
Mozambique | 1,199
Nicaragua | 1,935
Panama | 2,672
Peru | 3,778
South Africa | 2,119
Thailand | 1,290
Zimbabwe | 1,106

These allocations are based on the countries' historical shipments to the United States. The allocations of the raw cane sugar WTO TRQ to countries that are net importers of sugar are conditioned on receipt of the appropriate verifications of origin. Certificates for quota eligibility must accompany imports from any country for which an allocation has been provided.

Greta Peisch,
General Counsel, Office of the United States Trade Representative.

[FR Doc. 2021-14659 Filed 7-8-21; 8:45 am]

BILLING CODE 3290-F1-P